DEPARTMENT OF THE INTERIOR

Fish and Wildlife Service

[FWS-R9-F-2008-N0297; 97600-1660-2600-5d]

Sporting Conservation Council

AGENCY: Fish and Wildlife Service, Interior.

ACTION: Notice of meeting.

SUMMARY: We announce a meeting of the Sporting Conservation Council (Council). The meeting agenda includes: (1) The status of the Final White Papers Document associated with the White House Conference on North American Wildlife Policy, (2) the 10-year Action Plan mandated by Executive Order 13443, and (3) a report on the comparative risk modeling being developed at Michigan State University. This Council meeting is open to the public, and will include a session for the public to comment.

DATES: We will hold the meeting on December 2, 2008, from 9 a.m. to 3 p.m.; the public comment session will be from 1 p.m. to 1:30 p.m. If you wish to attend the meeting, notify Phyllis Seitts by Friday, November 21, 2008.

ADDRESSES: The meeting will be held in Room 350, Eisenhower Executive Office Building, 1650 Pennsylvania Avenue, NW., Washington, DC 20504.

FOR FURTHER INFORMATION CONTACT: Phyllis T. Seitts, 9828 North 31st Avenue, Phoenix, AZ 85051-2517; 602-906-5603 (phone); or Twinkle_Thompson-Seitts@blm.gov (e-mail).

SUPPLEMENTARY INFORMATION: The Secretary of the Interior established the Council in February 2006 (71 FR 11220, March 6, 2006). The Council's mission is to provide advice and guidance to the Federal Government through the Department of the Interior on how to increase public awareness of: (1) The importance of wildlife resources, (2) the social and economic benefits of recreational hunting, and (3) wildlife conservation efforts that benefit recreational hunting and wildlife resources.

The Secretary of the Interior and the Secretary of Agriculture signed an amended charter for the Council in June 2006 and July 2006, respectively. The revised charter states that the Council will provide advice and guidance to the Federal Government through the Department of the Interior and the Department of Agriculture.

The Council will hold a meeting on the date shown in the DATES section at the address shown in the ADDRESSES section. The meeting will include a session for the public to comment. Previous Council meetings this year occurred on April 8 in Denver, CO (73 FR 14997, March 20, 2008); on June 17 in Washington, DC (73 FR 31501, June 2, 2008); on September 17 in Washington, DC (73 FR 51645, September 4, 2008); on October 3 in Reno, NV (73 FR 21793, September 18, 2008); and, on October 28 via teleconference (73 FR 61159, October 15, 2008).

November 13, 2008.
Phyllis T. Seitts,
Designated Federal Officer, Sporting Conservation Council.

[FR Doc. E8-27446 Filed 11-17-08; 8:45 am]

BILLING CODE 4310-55-P